DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments concerning communities applying for eligibility in the National Flood Insurance Program (NFIP) by submitting the items listed on the prerequisites for the sale of flood insurance. This form is used by communities enrolling in the NFIP.

SUPPLEMENTARY INFORMATION: The NFIP is authorized by Public Law 90-448 (1968) and expanded by Public Law 93-234 (1973). Pursuant to 44 CFR 59.22, communities must make application for eligibility in the program by submitting the items listed on the prerequisites for the sale of flood insurance. Section 201 of the Flood Disaster Protection Act of 1973 requires all flood prone communities throughout the country to apply for participation one year after their flood prone identification or submit to the prohibition of certain types of Federal and Federally-related financial assistance for use in their floodplains. The information collected on the NFIP Application pertains to two general categories of information. One is simple community contact information such as the name of local officials, address, phone number, etc., which will be used for future contact. The second category of information pertains to demographic characteristics such as the number of structures in the community and the number of structures in the floodplain. This information is used to provide basic background information about the community's risk to flooding.

Collection of Information

Title: Application for Participation in the National Flood Insurance Program.

Type of Information Collection: Revision of a currently approved collection.

OMB Number: 1660-0004.

Form Number(s): FEMA Form 81-64, Application for Participation in the National Flood Insurance Program.

Abstract: The NFIP provides flood insurance to communities that apply for participation and make a commitment to adopt and enforce land use control measures that are designed to protect development from future flood damages. The application form will enable FEMA to continue to rapidly process new community applications and to thereby more quickly provide flood insurance protection to the residents of the communities. Participation in the NFIP is mandatory in order for flood related presidentially-declared communities to receive Federal disaster assistance.

Affected Public: Federal, State, Local, or Tribal Governments.

Estimated Total Annual Burden Hours: 748.

Annual Burden Hours
Project/activity (survey, form(s), focus group, worksheet, etc.) | Number of respondents | Frequency of responses | Burden hours per respondent | Annual responses | Total annual burden hours
| (A) | (B) | (C) | (D) = (A×B) | (E) = (C×D)
FF 81-64 | 187 | 1 | 4 | 187 | 748
Total | 187 | 1 | 4 | 187 | 748

Estimated Cost: The estimated burden hour cost for State officials, using wage rate categories is estimated to be $16,328.00. The Government's labor cost for this collection is estimated to be $9,712 for review and processing information.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 13, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact David Stearrett, Chief, Floodplain Management Section at (202) 646-2953 for additional information. You may contact the Records Management Branch for copies of the proposed collection of information at facsimile number (202) 646-3347 or e-mail address: FEMA-Information-Collections@dhs.gov.

Dated: August 30, 2007.
John A. Sharetts-Sullivan,
Chief, Records Management and Privacy Information Resources Management Branch, Information Technology Services Division, Federal Emergency Management Agency, Department of Homeland Security.

[FR Doc. E7-17793 Filed 9-10-07; 8:45 am]

BILLING CODE 9110-11-P